DEPARTMENT OF COMMERCE

International Trade Administration

Initiation of Antidumping and Countervailing Duty Administrative Reviews and Request for Revocation in Part

AGENCY: Enforcement and Compliance, Formerly Import Administration, International Trade Administration, Department of Commerce.

SUMMARY: The Department of Commerce (“the Department”) has received requests to conduct administrative reviews of various antidumping and countervailing duty orders and findings with December anniversary dates. In accordance with the Department's regulations, we are initiating those administrative reviews.

DATES: Effective Date: February 3, 2014.

FOR FURTHER INFORMATION CONTACT: Brenda E. Waters, Office of AD/CVD Operations, Customs Liaison Unit, Enforcement and Compliance, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with December anniversary dates.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303.¹ Such submissions are subject to verification in accordance with section 782(i) of the Tariff Act of 1930, as amended (“Act”). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews, except for the review of the antidumping duty order on crystalline silicon photovoltaic cells, whether or not assembled into modules (“solar cells and modules”) from the People's Republic of China (“PRC”), the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (“Q&V”) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Respondent Selection—Crystalline Silicon Photovoltaic Cells, Whether Or Not Assembled Into Modules, From the PRC

In the event the Department limits the number of respondents for individual examination in the administrative review of the antidumping duty order on solar cells and modules from the PRC, the Department intends to select respondents based on volume data contained in responses to Q&V questionnaires. Further, the Department intends to limit the number of Q&V questionnaires issued in the review based on CBP data for U.S. imports of solar cells and solar modules from the PRC. The units used to measure the imported quantities of solar cells and solar modules are “number”; however, it would not be meaningful to sum the number of imported solar cells and the number of imported solar modules in attempting to determine the largest PRC exporters of subject merchandise by volume. Therefore, the Department will limit the number of Q&V questionnaires issued based on the import values in CBP data which will serve as a proxy for imported quantities. Parties subject to the review to which the Department does not send a Q&V questionnaire may file a response to the Q&V questionnaire by the applicable deadline if they desire to be included in the pool of companies from which the Department will select mandatory respondents. The Q&V questionnaire will be available on the Department's Web site at http://trade.gov/enforcement/news.asp on the date of publication of this notice in the Federal Register. The responses to the Q&V questionnaire must be received by the Department by February 19, 2014. Please be advised that due to the time constraints imposed by the statutory and regulatory deadlines for antidumping duty administrative reviews, the Department does not intend to grant any extensions for the submission of responses to the Q&V questionnaire. Parties will be given the opportunity to comment on the CBP data used by the Department to limit the number of Q&V questionnaires issued. We intend to release the CBP data under APO to all parties having an APO within seven days of publication of this notice in the Federal Register. The Department invites comments regarding CBP data and respondent selection within five days of placement of the CBP data on the record.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers From the People's Republic of China, 56 FR 20588 (May 6, 1991), as amplified by Final Determination of Sales at Less Than Fair Value: Silicon Carbide From the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Furthermore, firms to which the Department issues a Q&V questionnaire in the antidumping duty administrative review of solar cells and modules from the PRC must submit a timely and complete response to the Q&V questionnaire, in addition to a timely and complete Separate Rate Application or Certification in order to receive consideration for separate-rate status. In other words, the Department will not give consideration to any timely Separate Rate Certification or Application made by parties to whom the Department issued a Q&V questionnaire but who failed to respond in a timely manner to the Q&V questionnaire. Exporters subject to the antidumping duty administrative review of solar cells and modules from the PRC to which the Department does not send a Q&V questionnaire may receive consideration for separate-rate status if they file a timely Separate Rate Application or a timely Separate Rate Certification without filing a response to the Q&V questionnaire. All information submitted by respondents in the antidumping duty administrative review of solar cells and modules from the PRC is subject to verification. As noted above, the Separate Rate Certification, the Separate Rate Application, and the Q&V questionnaire will be available on the Department's Web site on the date of publication of this notice in the Federal Register.

Initiation of Review

Initiation of Reviews

In accordance with 19 CFR 351.221(c)(1)(i), we are initiating administrative reviews of the following antidumping and countervailing duty orders and findings. We intend to issue the final results of these reviews not later than December 31, 2014.

| Period to be reviewed
Antidumping Duty Proceedings
TAIWAN: Steel Wire Garment Hangers, A-583-849 | 8/2/12-11/30/13
C & T International Group Ltd
Chaang Rong Industry Co., Ltd
Damco Taiwan Co., Ltd
Faithful Engineering Products Co., Ltd
For You Beautiful Industrial Co., Ltd
Gee Ten Enterprise Co. Ltd
Global Sources Enterprise Co., Ltd
Golden Canyon Limited
Good Wonder Ltd
Hung-Li Die Co., Ltd
Inmall Enterprises Co., Ltd
Intini Co., Ltd
Mico Mit Co., Ltd
Multi-Sander Tech Co., Ltd
Nan Shan International Co., Ltd. (A/K/A Nanshan International Co., Ltd.)
Ocean Concept Corporation
Oriental Dragon Co., Ltd
Richlife Texcare Co., Ltd
Saint Master Corp
South Crown Ltd
Taiwan Hanger Manufacturing Co., Ltd
Tay Ruey Enterprise Co
Thinkwide Trading Ltd
Tone World International Corp., B.V
Top Harvest Metal Co., Ltd
Yeh (Cayman) Intl Business
Young Max Enterprises Co. Ltd
The People's Republic of China: Carbazole Violet Pigment 23,⁴ A-570-892 | 12/1/12-11/30/13
Haimen Ruifeng Pigment Co. Ltd
Jiangsu Haimen Industrial Chemicals Factory
Nantong Haidi Chemicals Co., Ltd
The People's Republic of China: Certain Cased Pencils,⁵ A-570-827 | 12/1/12-11/30/13
Orient International Holding Shanghai Foreign Trade Co., Ltd
Shandong Rongxin Import & Export Co., Ltd
The People's Republic of China: Crystalline Silicon Photovoltaic Cells, Whether Or Not Assembled into Modules,⁶ A-570-979 | 5/25/12-11/30/13
Aiko Solar
Amplesun Solar
Baoding Jiasheng Photovoltaic Technology Co. Ltd
Baoding Tianwei Yingli New Energy Resources Co., Ltd
Beijing Hope Industry
Beijing Tianneng Yingli New Energy Resources Co. Ltd
Best Solar Hi-tech
Canadian Solar International Limited
Canadian Solar Manufacturing (Changshu) Inc
Canadian Solar Manufacturing (Luoyang) Inc
CEEG (Shanghai) Solar Science Technology Co., Ltd
CEEG Nanjing Renewable Energy Co., Ltd
Changzhou NESL Solartech Co., Ltd
Changzhou Trina Solar Energy Co., Ltd
China Sunergy
China Sunergy (Nanjing) Co., Ltd
Chinalight Solar
Chint Solar (Zhejiang) Co. Ltd
CNPV Dongying Solar Power Co., Ltd
CSG PVTech Co., Ltd
Dai Hwa Industrial
DelSolar Co., Ltd
De-Tech Trading Limited HK
Dongfang Electric (Yixing) MAGI Solar Power Technology Co., Ltd
EGing
ENN Solar Energy
Eoplly New Energy Technology Co., Ltd
Era Solar Co., Ltd
ET Solar Energy Limited
General Solar Power
Golden Partner development
Goldpoly (Quanzhou)
Hainan Yingli New Energy Resources Co., Ltd
Hairun Photovoltaics Technology Co., Ltd
Hangzhou Zhejiang University Sunny Energy Science and Technology Co., Ltd
Hanwha SolarOne (Qidong) Co., Ltd
Hareon Solar Technology
HC Solar Power Co., Ltd
Hengdian Group Dmegc Magnetics
Hengshui Yingli New Energy Resources Co., Ltd
Himin Clean Energy Holdings Co., Ltd
Innovosolar
JA Solar Technology Yangzhou Co., Ltd
Jetion Solar (China) Co., Ltd
Jia Yi Energy Technology
Jiangsu Green Power PV Co., Ltd
Jiangsu Jiasheng Photovoltaic Technology Co., Ltd
Jiangsu Sunlink PV Technology Co., Ltd
Jiangxi Green Power Co. Ltd
Jiasheng Photovoltaic Tech
Jiawei Solar Holding
Jiawei Solarchina Co. (Shenzhen), Ltd
Jiawei Solarchina Co., Ltd
JingAo Solar Co., Ltd
Jinko Solar Co., Ltd
Jinko Solar Import and Export Co, Ltd
JinkoSolar International Limited
Jiutai Energy
Konca Solar Cell Co., Ltd
Kuttler Automation Systems (Suzhou) Co., Ltd
LDK Hi-Tech (Nanchang Co. Ltd
LDK Solar Hi-tech (Nanchang) Co., Ltd
LDK Solar Hi-tech (Suzhou) Co., Ltd
Leye Photovoltaic Science Tech
Lightway Green New Energy Co., Ltd
Linuo Photovoltaic
Lixian Yingli New Energy Resources Co., Ltd
Luoyang Suntech Power Co., Ltd
Magi Solar Technology
Motech (Suzhou) Renewable Energy Co., Ltd
Ningbo ETDZ Holdings, Ltd
Ningbo Komaes Solar Technology Co., Ltd
Ningbo Qixin Solar Electrical Appliance Co., Ltd
Ningbo Ulica Solar Science & Technology Co., Ltd
Perfectenergy
Perlight Solar Co., Ltd
Polar Photovoltaics
Qiangsheng (QS Solar)
QXPV (Ningbo Qixin Solar Electrical Appliance Co., Ltd)
Refine Solar
ReneSola
Renesola Jiangsu Ltd
Risen Energy Co, Ltd
Risun Solar (JiangXi Ruijing Solar Power Co., Ltd)
Sanjing Silicon
Shanghai BYD Company Limited
Shanghai Chaori Solar Energy
Shanghai JA Solar Technology Co., Ltd
Shanghai Machinery Complete Equipment (Group) Corp., Ltd
Shanghai Solar Energy Science & Technology Co., Ltd
Shangpin Solar
Shanshan Ulica
Shenglong PV-Tech
Shenzhen Global Solar Energy Tech
Shenzhen Suntech Power Co., Ltd
Shenzhen Topray Solar Co. Ltd
ShunFeng PV
Shuqimeng Energy Tech
Skybasesolar
Solarbest Energy-Tech (Zhejiang) Co., Ltd
Solargiga Energy Holdings Ltd
Sopray Energy Co., Ltd
Star Power International Limited
Sumec Hardware & Tools Co., Ltd
Sun Earth Solar Power Co., Ltd
Sunflower
Sunlink PV
Suntech Power Co., Ltd
Sunvim Solar Technology
Suzhou Shenglong PV-Tech Co., Ltd
Tainergy Tech
tenKsolar (Shanghai) Co., Ltd
Tianjin Jinneng Solar Cell
Tianjin Yingli New Energy Resources Co., Ltd
Tianwei New Energy (Chengdu) PV Module Co., Ltd
Topray
Topsolar
Trina Solar (Changzhou) Science & Technology Co., Ltd
Trony
Upsolar Group Co., Ltd.,
Wanxiang Import & Export Co., Ltd
Weihai China Glass Solar
Wuxi Sunshine Power Co., Ltd
Wuxi Suntech Power Co., Ltd
Wuxi University Science Park International Incubator Co., Ltd
Yangzhou Rietech Renewal Energy Co., Ltd
Yangzhou Suntech Power Co., Ltd
Yingli Energy (China) Co., Ltd
Yingli Green Energy Holding Company Limited
Yingli Green Energy International Trading Company Limited
Yuhan Sinosola Science & Technology Co., Ltd
Yuhuan Solar Energy Source Co., Ltd
Yunnan Tianda
Yunnan Zhuoye Energy
Zhejiang Jiutai New Energy Co., Ltd
Zhejiang Leye Photovoltaic Science & Technology Co., Ltd
Zhejiang Shuqimeng Photovoltaic Technology Co., Ltd
Zhejiang Sunflower Light Energy Science & Technology Limited Liability Company
Zhejiang Top Point Photovoltaic Co., Ltd
Zhejiang Wanxiang Solar Co, Ltd
Zhejiang Xinshun Guangfu Science and Technology Co., Ltd
Zhejiang ZG-Cells Co., Ltd
Zhenjiang Huantai Silicon Science & Technology Co., Ltd
Zhenjiang Rietech New Energy Science & Technology Co., Ltd
Zhiheng Solar Inc
The People's Republic of China: Hand Trucks and Parts Thereof,⁷ A-570-891 | 12/1/12-11/30/13
Full Merit Enterprise Limited
New-Tec Integration (Xiamen) Co., Ltd
Yangjiang Shunhe Industrial Co.
The People's Republic of China: Honey,⁸ A-570-863 | 12/1/12-11/30/13
Dongtai Peak Honey Industry Co., Ltd
Fuzhou Shenglinmark Trade Co., Ltd
Kunshan Xinlong Food Co., Ltd
The People's Republic of China: Multilayered Wood Flooring,⁹ A-570-970 | 12/1/12-11/30/13
A&W (Shanghai) Woods Co., Ltd
Anhui Longhua Bamboo Product Co., Ltd
Armstrong Wood Products (Kunshan) Co., Ltd
Baishan Huafeng Wood Product Co., Ltd
Baiying Furniture Manufacturer Co., Ltd
Benxi Wood Company
Changbai Mountain Development and Protection Zone Hongtu Wood Industrial Co., Ltd
Changzhou Hawd Flooring Co., Ltd
Chinafloors Timber (China) Co., Ltd
Dalian Dajen Wood Co., Ltd
Dalian Huade Wood Product Co., Ltd
Dalian Huilong Wooden Products Co., Ltd
Dalian Jiuyuan Wood Industry Co., Ltd
Dalian Kemian Wood Industry Co., Ltd
Dalian Penghong Floor Products Co., Ltd
Dalian T-Boom Wood Products Co., Ltd
Dasso Industrial Group Co., Ltd
Dazhuang Floor Co. (dba Dasso Industrial Group Co., Ltd.)
Dongtai Fuan Universal Dynamics LLC
Dua Hua City Jisen Wood Industry Co., Ltd
Dua Hua Sen Tai Wood Co., Ltd
Duahua City Dexin Wood Industry Co., Ltd
Dunhua City Hongyuan Wood Industry Co., Ltd
Dunhua City Wanrong Wood Industry Co., Ltd
Dunhua Jisheng Wood Industry Co., Ltd
Dunhua Shengda Wood Industry Co., Ltd
Fine Furniture (Shanghai) Limited
Fu Lik Timber (HK) Co., Ltd
Fusong Jinlong Wooden Group Co., Ltd
Fusong Qianqiu Wooden Product Co., Ltd
GTP International Ltd
Guangdong Fu Lin Timber Technology Limited
Guangdong Yihua Timber Industry Co., Ltd
Guangzhou Homebon Timber Manufacturing Co., Ltd
Guangzhou Panyu Kangda Board Co., Ltd
Guangzhou Panyu Shatou Trading Co., Ltd
Guangzhou Panyu Southern Star Co., Ltd
HaiLin LinJing Wooden Products, Ltd
Hangzhou Hanje Tec Co., Ltd
Hangzhou Zhengtian Industrial Co., Ltd
Hunchun Forest Wolf Wooden Industry Co., Ltd
Hunchun Xingjia Wooden Flooring Inc
Huzhou Chenghang Wood Co., Ltd
Huzhou Fulinmen Imp. & Exp. Co., Ltd
Huzhou Fuma Wood Bus. Co., Ltd
Huzhou Jesonwood Co., Ltd
Huzhou Ruifeng Imp. & Exp. Co., Ltd
Huzhou Sunergy World Trade Co., Ltd
Jianfeng Wood (Suzhou) Co., Ltd
Jiangsu Kentier Wood Co., Ltd
Jiangsu Senmao Bamboo and Wood Industry Co., Ltd
Jiangsu Simba Flooring Co., Ltd
Jiashan Hui Jia Le Decoration Material Co., Ltd
Jiaxing Brilliant Import & Export Co., Ltd
Jiazing Brilliant Import & Export Co., Ltd
Jilin Forest Industry Jinqiao Flooring Group Co., Ltd
Jilin Xinyuan Wooden Industry Co., Ltd
Karly Wood Product Limited
Kemian Wood Industry (Kushan) Co., Ltd
Linyi Anying Wood Co., Ltd
Linyi Bonn Flooring Manufacturing Co., Ltd
Metropolitan Hardwood Floors, Inc
MuDanJiang Bosen Wood Industry Co., Ltd
Nakahiro Jyou Sei Furniture (Dalian) Co., Ltd
Nanjing Minglin Wooden Industry Co., Ltd
Pinge Timber Manufacturing (Zhejiang) Co., Ltd
Power Dekor Group Co., Ltd
Puli Trading Limited
Samling Group
Sennorwell International Group (Hong Kong) Limited
Shanghai Eswell Timber Co., Ltd
Shanghai Lairunde Wood Co., Ltd Shanghai Lizhong Wood Products Co., Ltd./The Lizhong Wood Industry Limited Company of Shanghai
Shanghai New Sihe Wood Co., Ltd
Shanghai Shenlin Corporation
Shenyang Haobainian Wooden Co., Ltd
Shenyang Sende Wood Co., Ltd
Shenyang Senwang Wooden Industry Co., Ltd
Shenzhenshi Huanwei Woods Co., Ltd
Suzhou Anxin Weiguang Timber Co., Ltd
Suzhou Dongda Wood Co., Ltd
Vicwood Industry (Suzhou) Co. Ltd
Xiamen Yung De Ornament Co., Ltd
Xuzhou Shenghe Wood Co., Ltd
Yekalon Industry, Inc
Yingyi-Nature (Kunshan) Wood Industry Co., Ltd
Yixing Lion-King Timber Industry Co., Ltd
Zhejiang AnJi XinFeng Bamboo & Wood Co., Ltd
Zhejiang Biyork Wood Co., Ltd
Zhejiang Dadongwu GreenHome Wood Co., Ltd
Zhejiang Desheng Wood Industry Co., Ltd
Zhejiang Fudeli Timber Industry Co., Ltd
Zhejiang Fuerjia Wooden Co., Ltd
Zhejiang Fuma Warm Technology Co., Ltd
Zhejiang Haoyun Wood Co., Ltd
Zhejiang Jeson Wood Co., Ltd
Zhejiang Layo Wood Industry Co., Ltd
Zhejiang Longsen Lumbering Co., Ltd
Zhejiang Shiyou Timber Co., Ltd
Zhejiang Tianzhen Bamboo & Wood Development Co., Ltd
The People's Republic Of China: Polyethylene Terephthalate (PET) Film,10 11 A-570-924 | 11/1/12-10/31/13
Shaoxing Xiangyu Green Packing Co., Ltd
Countervailing Duty Proceedings
The People's Republic of China: Crystalline Silicon Photovoltaic Cells, Whether Or Not Assembled into Modules, C-570-980 | 3/26/12-12/31/12
Aiko Solar
Amplesum Solar
Baoding Jiansheng Photovoltaic Technology Co., Ltd
Baoding Tianwei Yingli New Energy Resources Co., Ltd
Beijing Hope Industry
Beijing Tianneng Yingli New Energy Resources Co. Ltd
Best Solar Hi-tech
Canadian Solar International Limited
Canadian Solar Manufacturing (Changshu) Inc
Canadian Solar Manufacturing (Luoyang) Inc
CEEG (Shanghai) Solar Science Technology Co., Ltd
CEEG Nanjing Renewable Energy Co., Ltd
China Sunergy
Chinalight Solar
Chint Solar (Zhejiang) Co., Ltd
CNPV Dongying Solar Power Co., Ltd
CSG PVTech Co., Ltd
Changzhou NESL Solartech Co., Ltd
China Sunergy (Nanjing) Co., Ltd
Dai Hwa Industrial
De-Tech Trading Limited HK
DelSolar Co., Ltd
EGing
ENN Solar Energy
Eoplly New Energy Technology Co., Ltd
Era Solar Co., Ltd
ET Solar Energy Limited
General Solar Power
Golden Partner Development
Goldpoly (Quanzhou)
Hainan Yingli New Energy Resources Co., Ltd
Hangzhou Zhejiang University Sunny Energy Science and Technology Co. Ltd
Hairun Photovoltaics Technology Co., Ltd
Hareon Solar Technology Co., Ltd
Hendigan Group Dmegc Magnetics
Hengshui Yingli New Energy Resources Co., Ltd
Himin Clean Energy Holdings Co., Ltd
Jiangsu Green Power PV Co., Ltd
Jiangsu Jiasheng Photovoltaic Technology Co., Ltd
Jiawei Solarchina Co., Ltd
Jiawei Solarchina Co. (Shenzhen), Ltd
Jiawei Solar Holding
Innovosolar
JA Solar Technology Yangzhou Co., Ltd
Jetion Solar (China) Co., Ltd
Jiangsheng Photovoltaic Tech
Jiangsu Green Power PV Co., Ltd
Jiangsu Sunlink PV Technology Co., Ltd
Jiangxi Green Power Co. Ltd
Jiangxi Sunlink PV Technology Co., Ltd
Jia Yi Energy Technology
JingAo Solar Co., Ltd
Jinko Solar Import and Export Co., Ltd
Jinko Solar International Limited
Jinko Solar Co., Ltd
Jiuatai Energy
Konca Solar Cell Co., Ltd
Ningbo Komaes Solar Technology Co., Ltd
LDK Solar Hi-tech (Nanchang)
LDK Solar Hi-tech (Suzhou) Co., Ltd
Leye Photovoltaic Science Tech
Lightway Green New Energy Co., Ltd
Linuo Photovoltaic
Lixian Yingli New Energy Resources Co., Ltd
Magi Solar Technology
Motech (Suzhou) Renewable Energy Co., Ltd
MS Solar Investments LLC
Ningbo ETDZ Holdings, Ltd
Ningbo Qixin Solar Electrical Appliance Co., Ltd
Ningbo Ulica Solar Science & Technology Co., Ltd
Perlight Solar Co., Ltd
Perfectenergy
Polor Photovoltaics
Qiangsheng (QS Solar)
QXPV (Ningbo Qixin Solar Electrial Appliance Co., Ltd)
Refine Solar
ReneSola
Renesola Jinagsu Ltd
Risen Energy Co, Ltd
Risun Solar (JiangXi Ruijing Solar Power Co., Ltd)
Sanjing Silicon
Shanghai Chaori Solar Energy
Shanghai Solar Energy Science & Technology Co., Ltd
Shanghai BYD Company Limited
Shanghai JA Solar Technology Co., Ltd
Shanghai Machinery Complete Equipment (Group) Corp., Ltd
Shenzhen Global Solar Energy Tech
Shenzen Topray Solar Co., Ltd
Solarbest Energy-Techn (Zhejiang) Co., Ltd
Sopray Energy Co., Ltd
Shangpin Solar
Sumec Hardware & Tools Co., Ltd
Soloarbest Energy-Tech (Zhejiang) Co., Ltd
Shanshan Ulica
Shenglong PV-Tech
ShunFeng PV
Shupimeng Energy Tech
Skybasesolar
Solargiga Energy Holdings Ltd
Sun Earth Solar Power Co., Ltd
Sunflower
Sunlink PV
Wuxi Suntech Power Co., Ltd
Luoyang Suntech Power Co., Ltd
Suntech Power Co., Ltd
Wuxi Sun-shine Power Co., Ltd
Sunvim Solar Technology
Suzhou Shenglong PV-Tech Co., Ltd
Tainergy Tech
tenKsolar (Shanghai) Co., Ltd
Tianjin Jinneng Solar Cell
Tianjin Yingli New Energy Resources Co., Ltd
Tianwei New Energy (Chengdu) PV Module Co., Ltd
Boading Tianwei Yingli New Energy Resources Co., Ltd
Topray
Topsolar
Changzhou Trina Solar Energy Co., Ltd
Trina Solar (Changzhou) Science & Technology Co., Ltd
Trony
Wanxiang Import & Export Co., Ltd
Weihai China Glass Solar
Yingli Energy (China) Company Limited
Yingli Green Energy International Trading Company Limited
Yuhan Sinosola Science & Technology Co., Ltd
Yuhuan Solar Energy Source Co., Ltd
Yunnan Tianda
Yunnan Zhuoye Energy
Upsolar Group, Co. Ltd
HC Solar Power Co., Ltd
Zhiheng Solar Inc
Zhejiang Leye Photovoltaic Science & Technology Co., Ltd
Tianwei New Energy (Chengdu) PV Module Co., Ltd
Zhejiang ZG-Cells Co., Ltd
Zhejiang Xinshun Guangfu Science and Technology Co., Ltd
Zhejiang Jiutai New Energy Co. Ltd
Zhejiang Shuqimeng Photovoltaic Technology Co., Ltd
Zhejiang Sunflower Light Energy Science & Technology Limited Liability Company
Zhejiang Wanxiang Solar Co, Ltd
Dongfang Electric (Yixing) MAGI Solar Power Technology Co. Ltd
Yangzhou Rietech Renewal Energy Co., Ltd
Zhenjiang Huantai Silicon Science & Technology Co., Ltd
Kuttler Automation Systems (Suzhou) Co. Ltd
Shenzhen Suntech Power Co., Ltd
Wuxi Sunshine Power
Wuxi Universary Science Park International Incubator Co., Ltd
Yangzhou Suntech Power Co., Ltd
Zhenjiang Rietech New Energy Science & Technology Co., Ltd
The People's Republic of China: Lightweight Thermal Paper,¹² C-570-921 | 1/1/12-12/31/12
The People's Republic of China: Multilayered Wood Flooring, C-570-971 | 1/1/12-12/31/12
A&W (Shanghai) Woods Co., Ltd
Anhui Suzhou Dongda Wood Co., Ltd
Armstrong Wood Products (Kunshan) Co., Ltd
Baishan Huafeng Wood Product Co., Ltd
Baiying Furniture Manufacturer Co., Ltd
Baroque Timber Industries (Zhongshan) Co., Ltd
Changbai Mountain Development and Protection Zone Hongtu Wood Industrial Co., Ltd
Changzhou Hawd Flooring Co., Ltd
Chinafloors Timber (China) Co. Ltd
Dalian Dajen Wood Co., Ltd
Dalian Huade Wood Product Co., Ltd
Dalian Huilong Wooden Products Co., Ltd
Dalian Jiuyuan Wood Industry Co., Ltd
Dalian Kemian Wood Industry Co., Ltd
Dalian Penghong Floor Products Co., Ltd
Dalian T-Boom Wood Products Co., Ltd
Dongtai Fuan Universal Dynamics, LLC
Dun Hua City Jisen Wood Industry Co., Ltd
Dunhua City Dexin Wood Industry Co., Ltd
Dunhua City Hongyuan Wood Industry Co., Ltd
Dunhua City Wanrong Wood Industry Co., Ltd
Dunhua Sentai Wood Co., Ltd
Dunhua Shengda Wood Industry Co., Ltd
Fine Furniture (Shanghai) Limited
Fu Lik Timber (HK) Co., Ltd
Fusong Jinlong Wooden Group Co., Ltd
Fusong Qianqiu Wooden Product Co., Ltd
GTP International Ltd
Guangdong Yihua Timber Industry Co., Ltd
Guangzhou Homebon Timber Manufacturing Co., Ltd
Guangzhou Panyu Kangda Board Co., Ltd
Guangzhou Panyu Southern Star Co., Ltd
HaiLin XinCheng Wooden Products, Ltd
Hangzhou Dazhuang Floor Co., Ltd. (dba Dasso Industrial Group Co., Ltd.)
Hangzhou Hanje Tec Co., Ltd
Hangzhou Zhengtian Industrial Co., Ltd
Hunchun Forest Wolf Wooden Industry Co., Ltd
Hunchun Xingjia Wooden Flooring Inc
Huzhou Chenghang Wood Co., Ltd
Huzhou Fulinmen Imp. & Exp. Co., Ltd
Huzhou Fuma Wood Co., Ltd
Huzhou Jesonwood Co., Ltd
Huzhou Ruifeng Imp. & Exp. Co., Ltd
Huzhou Sunergy World Trade Co., Ltd
Jiafeng Wood (Suzhou) Co., Ltd
Jiangsu Senmao Bamboo and Wood Industry Co., Ltd
Jiangsu Simba Flooring Co., Ltd
Jiashan Hui Jia Le Decoration Material Co., Ltd
Jilin Forest Industry Jinqiao Flooring Group Co., Ltd
Jilin Xinyuan Wooden Industry Co., Ltd
Karly Wood Product Limited
Kemian Wood Industry (Kunshan) Co., Ltd
Linyi Anying Wood Co., Ltd
Linyi Bonn Flooring Manufacturing Co., Ltd
Linyi Youyou Wood Co., Ltd
Mudanjiang Bosen Wood Industry Co., Ltd
Nakahiro Jyou Sei Furniture (Dalian) Co., Ltd
Nanjing Minglin Wooden Industry Co., Ltd
Power Dekor Group Co., Ltd
Riverside Plywood Corporation
Samling Elegant Living Trading (Labuan) Limited
Samling Riverside Co., Ltd
Shanghai Anxin (Weiguang) Timber Co., Ltd
Shanghai Eswell Timber Co., Ltd
Shanghai Lairunde Wood Co., Ltd
Shanghai Lizhong Wood Products Co., Ltd. (also known as the The Lizhong Wood Industry Limited Company of Shanghai)
Shanghai New Sihe Wood Co., Ltd
Shanghai Shenlin Corporation
Shenyang Haobainian Wooden Co., Ltd
Shenzhenshi Huanwei Woods Co., Ltd
Vicwood Industry (Suzhou) Co. Ltd
Xiamen Yung De Ornament Co., Ltd
Xuzhou Shenghe Wood Co., Ltd
Yekalon Industry, Inc
Yingyi-Nature (Kunshan) Wood Industry Co., Ltd
Yixing Lion-King Timber Industry
Zhejiang Anji Xinfeng Bamboo and Wood Industry Co., Ltd
Zhejiang Biyork Wood Co., Ltd
Zhejiang Dadongwu Green Home Wood Co., Ltd
Zhejiang Desheng Wood Industry Co., Ltd
Zhejiang Fudeli Timber Industry Co., Ltd
Zhejiang Fuerjia Wooden Co., Ltd
Zhejiang Fuma Warm Technology Co., Ltd
Zhejiang Haoyun Wooden Co., Ltd
Zhejiang Longsen Lumbering Co., Ltd
Zhejiang Shiyou Timber Co., Ltd
Zhejiang Tianzhen Bamboo & Wood Development Co., Ltd
Suspension Agreements
None

⁴ If one of the above-named companies does not qualify for a separate rate, all other exporters of Carbazole Violet Pigment 23 from the PRC who have not qualified for a separate rate are deemed to be covered by this review as part of the single PRC entity of which the named exporters are a part.

⁵ If one of the above-named companies does not qualify for a separate rate, all other exporters of Certain Cased Pencils from the PRC who have not qualified for a separate rate are deemed to be covered by this review as part of the single PRC entity of which the named exporters are a part.

⁶ If one of the above-named companies does not qualify for a separate rate, all other exporters of Crystalline Silicon Photovoltaic Cells, Whether Or Not Assembled into Modules from the PRC who have not qualified for a separate rate are deemed to be covered by this review as part of the single PRC entity of which the named exporters are a part.

⁷ If one of the above-named companies does not qualify for a separate rate, all other exporters of Hand Trucks and Parts Thereof PRC who have not qualified for a separate rate are deemed to be covered by this review as part of the single PRC entity of which the named exporters are a part.

⁸ If one of the above-named companies does not qualify for a separate rate, all other exporters of Honey from the PRC who have not qualified for a separate rate are deemed to be covered by this review as part of the single PRC entity of which the named exporters are a part.

⁹ If one of the above-named companies does not qualify for a separate rate, all other exporters of Multilayered Wood Flooring from the PRC who have not qualified for a separate rate are deemed to be covered by this review as part of the single PRC entity of which the named exporters are a part.

¹⁰ If one of the above-named companies does not qualify for a separate rate, all other exporters of Polyethylene Terephthalate (PET) Film from the PRC who have not qualified for a separate rate are deemed to be covered by this review as part of the single PRC entity of which the named exporters are a part.

¹¹ The company listed above was misspelled in the initiation notice that published on December 30, 2013 (78 FR 79392). The correct spelling of the company is listed in this notice.

¹² In the initiation notice that published on December 30, 2013 (78 FR 79392), the Department inadvertently included Shanghai Hanhong Paper Co., Ltd. and Hanhong International Limited in the initiation of the review of the countervailing duty order on Lightweight Thermal Paper from the PRC. We are not initiating a countervailing duty review with respect to Shanghai Hanhong Paper Co., Ltd. and Hanhong International Limited.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that the meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: The definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in this segment.

Any party submitting factual information in an antidumping duty or countervailing duty proceeding must certify to the accuracy and completeness of that information.¹³ Parties are hereby reminded that revised certification requirements are in effect for company/government officials as well as their representatives. Ongoing segments of any antidumping duty or countervailing duty proceedings initiated on or after March 14, 2011 should use the formats for the revised certifications provided at the end of the Interim Final Rule.¹⁴ All segments of any antidumping duty or countervailing duty proceedings initiated on or after August 16, 2013, should use the formats for the revised certifications provided at the end of the Final Rule.¹⁵ The Department intends to reject factual submissions in any proceeding segments if the submitting party does not comply with applicable revised certification requirements.

¹³ See section 782(b) of the Act.

¹⁴ See Certification of Factual Information to Import Administration During Antidumping and Countervailing Duty Proceedings: Interim Final Rule, 76 FR 7491 (February 10, 2011) (“Interim Final Rule”), amending 19 CFR 351.303(g)(1) and (2); Certification of Factual Information to Import Administration during Antidumping and Countervailing Duty Proceedings: Supplemental Interim Final Rule, 76 FR 54697 (September 2, 2011).

¹⁵ See Certification of Factual Information To Import Administration During Antidumping and Countervailing Duty Proceedings, 78 FR 42678 (July 17, 2013) (“Final Rule”); see also the frequently asked questions regarding the Final Rule, available at http://enforcement.trade.gov/tlei/notices/factual_info_final_rule_FAQ_07172013.pdf.

Revised Extension of Time Limits Regulation

On September 20, 2013, the Department modified its regulation concerning the extension of time limits for submissions in antidumping and countervailing duty proceedings: Final Rule, 78 FR 57790 (September 20, 2013). The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: January 28, 2014.
Christian Marsh,
Deputy Assistant Secretary, for Antidumping and Countervailing Duty Operations.

[FR Doc. 2014-02242 Filed 1-31-14; 8:45 am]

BILLING CODE 3510-DS-P